SMALL BUSINESS ADMINISTRATION

Revocation of License of Small Business Investment Company

Pursuant to the authority granted to the United States Small Business Administration by the Final Order of the United States District Court for the Central District of California, entered September 21, 2001, the United States Small Business Administration hereby revokes the license of Helio Capital, Inc., a California corporation, to function as a small business investment company under the Small Business Investment Company License No. 09/09-5361 issued to Helio Capital, Inc. on September 20, 1985 and said license is hereby declared null and void as of November 14, 2001.

Dated: November 14, 2001.
United States Small Business Administration.
Harry Haskins,
Associate Administrator for Investment.

[FR Doc. 01-29298 Filed 11-23-01; 8:45 am]

BILLING CODE 8025-01-P